DEPARTMENT OF THE INTERIOR

Bureau of Ocean Energy Management

[Docket No. BOEM-2015-0117]

Gulf of Mexico, Outer Continental Shelf (OCS), Central Planning Area (CPA) Oil and Gas Lease Sale 241; MMAA104000

AGENCY: Bureau of Ocean Energy Management (BOEM), Interior.

ACTION: Notice of availability of a Record of Decision.

SUMMARY: BOEM is announcing the availability of a Record of Decision for proposed oil and gas CPA Lease Sale 241. This Record of Decision identifies the Bureau's selected alternative for proposed CPA Lease Sale 241, which is analyzed in the Gulf of Mexico OCS Oil and Gas Lease Sales: 2016 and 2017; Central Planning Area Lease Sales 241 and 247; Eastern Planning Area Lease Sale 226; Final Supplemental Environmental Impact Statement (CPA 241/EPA 226 Supplemental EIS). The Record of Decision and associated information are available on the agency Web site at http://www.boem.gov/nepaprocess/.

FOR FURTHER INFORMATION CONTACT: For more information on the Record of Decision, you may contact Mr. Gary D. Goeke, Bureau of Ocean Energy Management, Gulf of Mexico OCS Region, 1201 Elmwood Park Boulevard (GM 623E), New Orleans, Louisiana 70123-2394. You may also contact Mr. Goeke by telephone at 504-736-3233.

SUPPLEMENTARY INFORMATION: In the CPA 241/EPA 226 Supplemental EIS, BOEM evaluated the three alternatives that are summarized below with regard to proposed CPA Lease Sale 241:

Alternative A—The Proposed Action: This is BOEM's preferred alternative. This alternative would offer for lease for oil and gas operations all unleased blocks within the proposed CPA lease sale area with the following exceptions: whole and partial blocks deferred by the Gulf of Mexico Energy Security Act of 2006; and blocks that are adjacent to or beyond the United States' Exclusive Economic Zone in the area known as the northern portion of the Eastern Gap.

All unleased whole and partial blocks in the CPA that BOEM will offer for leasing in proposed CPA Lease Sale 241 are listed in the document “List of Blocks Available for Leasing,” which is included in the Final Notice of Sale for CPA Lease Sale 241. The proposed CPA lease sale area encompasses about 63 million acres (ac) of the total CPA area of 66.45 million acres. As of October 2015, approximately 46.9 million ac of the proposed CPA lease sale area are currently unleased. The estimated amount of resources projected to be developed as a result of the proposed CPA lease sale is 0.460-0.894 billion barrels of oil (BBO) and 1.939-3.903 trillion cubic feet (Tcf) of gas.

Alternative B—Exclude the Unleased Blocks Near Biologically Sensitive Topographic Features: This alternative would offer for lease all unleased blocks within the proposed CPA lease sale area, as described for the proposed action (Alternative A), but it would exclude from leasing any unleased blocks subject to the Topographic Features Stipulation, described below. The number of blocks that would not be offered under Alternative B represents only a small percentage of the total number of blocks to be offered under Alternative A; therefore, it is assumed that the levels of activity for Alternative B would be essentially the same as those projected for the CPA proposed action. The estimated amount of resources projected to be developed under this alternative is 0.460-0.894 BBO and 1.939-3.903 Tcf of gas.

Alternative C—No Action: This alternative is the cancellation of proposed CPA Lease Sale 241 and is identified as the environmentally preferred alternative.

Lease Stipulations—The CPA 241/EPA 226 Supplemental EIS describes all lease stipulations, which are included in the Final Notice of Sale Package. The 10 lease stipulations for proposed CPA Lease Sale 241 are the Topographic Features Stipulation; the Live Bottom (Pinnacle Trend) Stipulation; the Military Areas Stipulation; the Evacuation Stipulation; the Coordination Stipulation; the Blocks South of Baldwin County, Alabama, Stipulation; the Protected Species Stipulation; the United Nations Convention on the Law of the Sea Royalty Payment Stipulation; the Below Seabed Operations Stipulation; and the Stipulation on the Agreement between the United States of America and the United Mexican States Concerning Transboundary Hydrocarbon Reservoirs in the Gulf of Mexico. The stipulations will be added as lease terms where applicable and will therefore be enforceable as part of the lease. Appendix A of the CPA 241/EPA 226 Supplemental EIS provides a list and description of standard post-lease mitigating measures that may be required by BOEM or BSEE as a result of plan and permit review processes for the Gulf of Mexico OCS Region.

After careful consideration, BOEM has selected the proposed action, which is identified as BOEM's preferred alternative (Alternative A) in the CPA 241/EPA 226 Supplemental EIS. BOEM's selection of the preferred alternative meets the purpose and need for the proposed action, as identified in the CPA 241/EPA 226 Supplemental EIS, and reflects orderly resource development, with protection of the human, marine, and coastal environments, while also ensuring that the public receives an equitable return for these resources and that free-market competition is maintained.

Authority: This NOA of a Record of Decision is published pursuant to the regulations (40 CFR part 1503) implementing the provisions of the National Environmental Policy Act of 1969, as amended (42 U.S.C. 4321 et seq.).

Dated: February 10, 2016.
Abigail Ross Hopper,
Director, Bureau of Ocean Energy Management.

[FR Doc. 2016-03280 Filed 2-18-16; 8:45 am]

BILLING CODE 4310-MR-P